DEPARTMENT OF TRANSPORTATION

Office of the Secretary

[Docket No. DOT-OST-2012-0028]

Application To Reinstate Information Collection Request OMB No. 2105-0566

AGENCY: Office of the Secretary (OST), Department of Transportation (Department).

ACTION: Notice and request for comments.

SUMMARY: In compliance with the Paperwork Reduction Act of 1995 (44 U.S.C. 3501 et seq.), this notice announces that the request for reinstatement of an OMB Control Number for the Information Collection Request (ICR) abstracted below is being forwarded to the Office of Management and Budget (OMB) for review and comments. A Federal Register Notice with a 60-day comment period soliciting comments on the following information collection was published on June 2, 2015 (80 FR 31455).

DATES: Comments on this notice must be received by July 18, 2016.

ADDRESSES: Send comments regarding the burden estimate, including suggestions for reducing the burden, to the Office of Management and Budget, Attention: Desk Officer for the Office of the Secretary of Transportation, 725 17th Street NW., Washington, DC 20503. Comments may also be sent via email to OMB at the following address: oira_submissions@omb.eop.gov.

FOR FURTHER INFORMATION CONTACT: Kimberly Graber or Daeleen Chesley, Office of the General Counsel, Office of the Secretary, U.S. Department of Transportation, 1200 New Jersey Avenue SE., Washington, DC 20590, 202-366-9342 (Voice), or at kimberly.graber@dot.gov or Daeleen.Chesley@dot.gov (Email). Arrangements to receive this document in an alternative format may be made by contacting the above-named individuals.

SUPPLEMENTARY INFORMATION:

Title: Submission of U.S. Carrier and Airport Tarmac Delay Emergency Contingency Plans Pursuant to FAA Modernization and Reform Act.

OMB Control Number: 2105-0566.

Type of Request: Request to reinstate OMB control number 2105-0566.

Abstract: The FAA Modernization and Reform Act, which was signed into law on February 14, 2012, required U.S. carriers that operate scheduled passenger service or public charter service using any aircraft with a design capacity of 30 or more seats, and operators of large hub, medium hub, small hub, or non-hub U.S. airports, to submit emergency contingency plans for lengthy tarmac delays to the Secretary of Transportation for review and approval no later than May 14, 2012. The Act also required each covered carrier and airport to ensure public access to its plan after DOT approval by posting the plan on its Web site.

On May 2, 2012, OMB approved information collection of the reports on an emergency basis due to the short timeframe imposed by the Act. The Department created an online system allowing covered U.S. air carriers and U.S. airports to submit plans online and issued a notice in the Federal Register stating how these entities should submit the required plans to the Department through the online system (77 FR 27267, May 9, 2012). Pursuant to the requirements of the Act, the Department reviewed and approved emergency contingency plans submitted by over 450 covered air carriers and airports.

In addition to requiring the initial submission of emergency contingency plans, the Act requires U.S. air carriers to submit an updated plan every 3 years and U.S. airport operators to submit an updated plan every 5 years and to ensure public access to those plans after DOT approval. The emergency approval terminated on November 30, 2012.

The Paperwork Reduction Act of 1995 (PRA) and its implementing regulations, 5 CFR part 1320, require Federal agencies to issue two notices seeking public comment on information collection activities before OMB may approve paperwork packages. 44 U.S.C. 3506, 3507; 5 CFR 1320.5, 1320.8(d)(1), 1320.12. On June 2, 2015, OST published a 60-day notice in the Federal Register soliciting comment on ICRs for which the agency was seeking OMB approval. See 80 FR 105 at 31455. OST received no comments after issuing this notice. Accordingly, the Department announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). The 30-day notice informs the regulated community to file relevant comments to OMB and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995).

For each of these information collections, the title, a description of the respondents, and an estimate of the annual recordkeeping and periodic reporting burden are set forth below:

1. Requirement to submit tarmac delay plan to DOT for review and approval.

Respondents: Each large, medium, small and non-hub airport in the U.S.; U.S. carriers that operate scheduled passenger service or public charter service using any aircraft with a design capacity of 30 or more seats.

Estimated Number of Respondents: 420 U.S. airports and 65 U.S. airlines.

Frequency: Every 5 years for covered U.S. airports; every 3 years for covered U.S. airlines.

Estimated Total Burden on Respondents: For U.S. airports—247.5 hours (25 “new” airports × 2 hours = 50 hours) + (395 existing airports × .5 hours = 197.5 hours). For U.S. airlines—40 hours (60 existing airlines × .5 hours = 30 hours) + (5 new airlines × 2 hours = 10 hours).

2. Requirement to post tarmac delay plan on Web sites.

Respondents: Each large, medium, small and non-hub airport in the U.S.; U.S. carriers that operate scheduled passenger service or public charter service operating to or from the United States, using any aircraft with a design capacity of 30 or more seats.

Estimated Number of Respondents: 420 U.S. airports and 65 U.S. airlines.

Estimated Total Frequency: Every 5 years for covered U.S. airports; every 3 years for covered U.S. airlines (if not already posted or if there are updates).

Burden on Respondents: 121.25 hours (420 airports × .25 hours = 105 hours) + (65 airlines × .25 hours = 16.25 hours).

Public Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents without reducing the quality of the collection of information, including the use of automated collection techniques or other forms of information technology. All comments will also become a matter of public record.

Authority: The Paperwork Reduction Act of 1995; 44 U.S.C. Chapter 35, as amended; and 49 CFR 1:48.

Issued in Washington, DC, on June 10, 2016.
Claire W. Barrett,
DOT Chief Privacy & Information Governance Officer, Office of the Secretary.

[FR Doc. 2016-14361 Filed 6-16-16; 8:45 am]

BILLING CODE 4910-9X-P